FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 012426-004.

Agreement Name: The OCEAN Alliance Agreement.

Parties: American President Lines, LLC; APL Co. Pte. Ltd.; CMA CGM S.A.; COSCO Shipping Lines Co., Ltd.; Evergreen Line Joint Service Agreement; OOCL (Europe) Limited; and Orient Overseas Container Line Limited.

Filing Party: Robert Magovern; Cozen O'Connor.

Synopsis: The amendment revises Article 2 to remove COSCO SHIPPING Lines (Europe) GmbH as a sub-party to the Agreement and adds India to the geographic scope of the Agreement.

Proposed Effective Date: 5/31/2020.

Location: https://www2.fmc.gov/FMC.Agreements.Web/Public/AgreementHistory/1214.

Dated: April 17, 2020.
Rachel Dickon,
Secretary.

[FR Doc. 2020-08624 Filed 4-22-20; 8:45 am]

BILLING CODE 6730-02-P